SMALL BUSINESS ADMINISTRATION

Public Federal Regulatory Enforcement Fairness Hearing; Small Business Administration Region VIII Regulatory Fairness Board

The Small Business Administration Region VIII Regulatory Fairness Board and the SBA Office of the National Ombudsman will hold a Public Hearing on Friday, July 23, 2004 at 8:30 a.m. at Montana Business Incubator, Montana State University—Billings, College of Business, 100 Poly Drive, Suite 150, Billings, MT 59101, to receive comments and testimony from small business owners, small government entities, and small non-profit organizations concerning regulatory enforcement and compliance actions taken by federal agencies.

Anyone wishing to attend or to make a presentation must contact Lorena Carlson in writing or by fax, in order to be put on the agenda. Lorena Carlson, Public Affairs Specialist, Montana District Office, 10 West 15th Street, Suite 1100, Helena, MT 59626, phone (406) 441-1081 Ext. 128, fax (406) 441-1090, e-mail: lorena.carlson@sba.gov.

For more information, see our Web site at http://www.sba.gov/ombudsman.

Dated: July 8, 2004.
Peter Sorum,
Senior Advisor, Office of the National Ombudsman.

[FR Doc. 04-15954 Filed 7-13-04; 8:45 am]

BILLING CODE 8025-01-P